DEPARTMENT OF COMMERCE

Census Bureau

Submission for OMB Review; Comment Request

The Department of Commerce will submit to the Office of Management and Budget (OMB) for clearance the following proposal for collection of information under the provisions of the Paperwork Reduction Act.

Agency: U.S. Census Bureau.

Title: Census Age Search Service.

OMB Control Number: 0607-0117.

Form Number(s): BC-600, BC-600(SP), BC-649L, and BC-658L.

Type of Request: Extension of a currently approved collection.

Number of Respondents: 2,885.

Average Hours per Response: BC-600—12 minutes, BC-649L—6 minutes, BC-658L—6 minutes.

Burden Hours: 531 hours.

Needs and Uses: To locate records for individuals who need proof of age to qualify for Federal programs that require this information.

Affected Public: Individuals or households that need certified proof of age documents.

Frequency: On an as needed basis.

Respondent's Obligation: Required to obtain or retain benefits, to submit completed applications and required fees.

Legal Authority: Section 8(a) of Title 13.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-04128 Filed 3-6-19; 8:45 am]

BILLING CODE 3510-07-P